DEPARTMENT OF ENERGY

Federal Energy Regulatory Commission

[Docket No. RP13-787-000]

El Paso Natural Gas Company, L.L.C.; Notice of Petition for Declaratory Order

Take notice that on April 5, 2013, pursuant to Rule 207(a)(2) of the Commission's Rules of Practice and Procedure, 18 CFR 385.207(a)(2)(2012), El Paso Natural Gas Company, L.L.C. (EPNG) submits this Petition for a Declaratory Order seeking guidance on an issue concerning the application and interpretation of EPNG's tariff and contracts, as more fully described in their petition. Specifically, EPNG seeks Commission guidance concerning whether UNS Gas Inc. and Texas Gas Service Company, a Division of ONEOK, Inc., will be entitled to the rate provided by Article 11.2(a) of EPNG's 1996 Settlement (“Article 11.2(a) rate”) after the term of their existing Article 11.2(a) contracts expires on August 31, 2013.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Comment Date: 5:00 p.m. Eastern time on Friday, May 3, 2013.

Dated: April 9, 2013.
Kimberly D. Bose,
Secretary.

[FR Doc. 2013-08818 Filed 4-15-13; 8:45 am]

BILLING CODE 6717-01-P